DEPARTMENT OF HOUSING AND URBAN DEVELOPMENT

24 CFR Part 30

[Docket No. FR-5081-C-04]

RIN 2501-AD23

Civil Money Penalties: Certain Prohibited Conduct; Technical Amendment

AGENCY: Office of the Secretary, HUD.

ACTION: Final rule, technical amendment.

SUMMARY: On January 15, 2009, HUD published a final rule to revise HUD's regulations that govern the imposition of civil money penalties. The effect of the rulemaking was to remove one item from the list of actions for which the Mortgagee Review Board may initiate a civil money penalty action against a mortgagee or lender, reducing the list from 15 numbered items to 14, and redesignating the 15th item as item number 14. However, a related cross reference was not updated to reflect this change. In addition, a section revised in 2006 involving delinquent mortgages, also requires a cross-reference change. This document corrects these cross-references.

DATES: Effective Date: April 1, 2009.

FOR FURTHER INFORMATION CONTACT: Dane Narode, Associate General Counsel for Program Enforcement, Department of Housing and Urban Development, 1250 Maryland Avenue, SW., Suite 200, Washington, DC 20024-0500; telephone number 202-708-2350 (this is not a toll-free number), or e-mail address Dane.M.Narode@hud.gov. Individuals with hearing or speech impairments may access this number through TTY by calling the toll-free Federal Information Relay Service at 800-877-8339.

SUPPLEMENTARY INFORMATION: On January 15, 2009 (74 FR 2750), HUD published a final rule that revised HUD's regulations that govern the imposition of civil money penalties, located at part 30 of Title 24 of the Code of Federal Regulations. The final rule followed a proposed rule published on October 17, 2008 (73 FR 61754), that provided a 60 day public comment period. HUD received no comments in response to the proposed rule, the proposed rule was adopted as final without change., The rule was adopted as final effective February 17, 2009, see 74 FR 2750, Jan. 15, 2009.

The civil money penalty regulations at 24 CFR 30.35 contain a list of actions, the commission of which allows the mortgagee review board to initiate a civil money penalty action. There were originally 14 such actions (see 61 FR 50216-50217). On April 26, 2005, HUD amended the rule to add a 15th action, failure to engage in loss mitigation. This action was codified at 24 CFR 30.35(a)(15). Along with this addition, 24 CFR 30.35(c)(2) was added pursuant to statutory requirement to provide for a triple civil money penalty for violations of this section.

On January 15, 2009, HUD adopted as final regulations that revised 24 CFR 30.35(a) to remove item 24 CFR 30.35(a)(14) from the list, and to redesignate the failure to engage in loss mitigation item from 24 CFR 30.35(a)(15) to 24 CFR 30.35(a)(14) (74 FR 2751, Jan. 15, 2009). However, the 2009 rule failed to incorporate the related cross reference. Therefore, this technical amendment revises 24 CFR 30.35(c)(2) to refer to § 30.35(a)(14).

The civil money penalty regulations at § 30.35(a)(9)(vi) contain a provision stating that the mortgagee review board may initiate a civil money penalty action for failure to report all delinquent mortgages to HUD. Section 30.35(a)(9)(vi) cross-references § 203.332 on delinquent mortgages. In 2006, § 203.332 was moved to § 203.330 and revised (71 FR 16234, Mar.31, 2006). Therefore, this technical amendment revises the cross-reference.

List of Subjects in 24 CFR Part 30

Administrative practice and procedure, Grant programs-housing and community development, Loan programs-housing and community development, Mortgages, Penalties.

Accordingly, 24 CFR part 30 is amended as follows:

PART 30—[AMENDED]

1. The authority citation for 24 CFR part 30 continues to read as follows:

Authority: 12 U.S.C. 1701q-1, 1703, 1723i, 1735f-14, 1735f-15; 15 U.S.C. 1717a; 28 U.S.C. 2461 note; 42 U.S.C. 1437z-1 and 3535(d).

2. Amend § 30.35 by revising paragraphs (a)(9)(vi) and (c)(2) to read as follows.

§ 30.35 Mortgagees and lenders.

(a) * * *

(9) * * *

(vi) Report all delinquent mortgages to HUD, as required by § 203.330 of this title;

* * * * *

(c) * * *

(2) Maximum penalty for failing to engage in loss mitigation. The penalty for a violation of paragraph (a)(14) of this section shall be three times the amount of the total mortgage insurance benefits claimed by the mortgagee with respect to any mortgage for which the mortgagee failed to engage in such loss mitigation actions.

Dated: March 25, 2009.
Aaron Santa Anna,
Assistant General Counsel for Regulations.

[FR Doc. E9-7078 Filed 3-31-09; 8:45 am]

BILLING CODE